DEPARTMENT OF COMMERCE

International Trade Administration

[A-580-603; A-421-701; A-401-601]

Revocation of Antidumping Duty Orders: Brass Sheet and Strip From the Republic of Korea, the Netherlands, and Sweden

AGENCY: Import Administration, International Trade Administration, Department of Commerce.

ACTION: Notice of revocation of antidumping duty orders: Brass sheet and strip from the Republic of Korea, the Netherlands, and Sweden.

SUMMARY: Pursuant to section 751(c) of the Tariff Act of 1930, as amended (“the Act”), the United States International Trade Commission (“the Commission”) determined that revocation of the antidumping duty orders on brass sheet and strip from the Republic of Korea (“Korea”), the Netherlands, and Sweden are not likely to lead to continuation or recurrence of material injury to an industry in the United States within a reasonably foreseeable time (65 FR 20832 (April 18, 2000)). Therefore, pursuant to section 751(d)(2) of the Act and 19 CFR 351.222(i)(1), the Department of Commerce (“the Department”) is revoking the antidumping duty orders on brass sheet and strip from Korea, the Netherlands, and Sweden. Pursuant to section 751(c)(6)(A)(iv) of the Act and 19 CFR 351.222(i)(2), the effective date of revocation is January 1, 2000.

EFFECTIVE DATE: January 1, 2000.

FOR FURTHER INFORMATION CONTACT: Eun W. Cho or Carole Showers, Office of Policy for Import Administration, International Trade Administration, U.S. Department of Commerce, 14th Street and Constitution Ave., NW, Washington, DC 20230; telephone: (202) 482-1698 or (202) 482-3217, respectively.

On February 1, 1999, the Department initiated, and the Commission instituted, sunset reviews (64 FR 4840 and 64 FR 4892, respectively) of the antidumping duty orders on brass sheet and strip from Korea, the Netherlands, and Sweden, pursuant to section 751(c) of the Act. As a result of the reviews, the Department found that revocation of the antidumping duty orders would be likely to lead to continuation or recurrence of dumping and notified the Commission of the magnitude of the margins likely to prevail were the antidumping orders revoked.¹

¹ See Final Results of Expedited Sunset Reviews: Brass Sheet and Strip from Brazil, France, and Korea, 64 FR 48351 (September 3, 1999); Final Results of Full Sunset Review: Brass Sheet and Strip from the Netherlands, 65 FR 735 (January 6, 2000); and Final Results of Expedited Sunset Review: Brass Sheet and Strip from Sweden, 64 FR 49444 (September 13, 1999).

On April 18, 2000, the Commission determined, pursuant to section 751(c) of the Act, that revocation of the antidumping duty orders on brass sheet and strip from Korea, the Netherlands, and Sweden would not likely lead to continuation or recurrence of material injury to an industry in the United States within a reasonably foreseeable time. (see, Brass Sheet and Strip from Brazil, Canada, France, Germany, Italy, Japan, Korea, the Netherlands, and Sweden, 65 FR 20832 (April 18, 2000) and USITC Publication 3290, Investigations Nos. 701-TA-269 & 270 (Review), and 731-TA-311-317 and 379-380 (Review) (April 2000)).

Scope

Imports covered by this order are brass sheet and strip, other than leaded and tin brass sheet and strip, from Korea, the Netherlands, and Sweden. The chemical composition of the products under order is currently defined in the Copper Development Association (“CDA”) 200 Series or the Unified Numbering System (“UNS”) C20000 series. This order does not cover products the chemical composition of which are defined by other CDA or UNS series. The physical dimensions of the products covered by this order are brass sheet and strip of solid rectangular cross section over 0.006 inch (0.15 millimeter) through 0.188 inch (4.8 millimeters) in gauge, regardless of width. Coiled, wound-on-reels (traverse-wound), and cut-to-length products are included. The merchandise subject to this order is currently classifiable under item numbers 7409.21.00.50, 7409.21.00.75, 7409.21.00.90, 7409.29.00.50, 7409.29.00.75, and 7409.29.0090 of the Harmonized Tariff Schedule of the United States (“HTSUS”). Although the HTSUS subheadings are provided for convenience and customs purposes, the written description of the merchandise subject to this order is dispositive.

Determination

As a result of the determination by the Commission that revocation of these antidumping duty orders is not likely to lead to continuation or recurrence of material injury to an industry in the United States, the Department, pursuant to section 751(d)(2) of the Act and 19 CFR 351.222(i)(1), is revoking the antidumping duty orders on brass sheet and strip from Korea, the Netherlands, and Sweden. Pursuant to section 751(c)(6)(A)(iv) of the Act and 19 CFR 351.222(i)(2)(ii), this revocation is effective January 1, 2000.

The Department will instruct the U.S. Customs Service to discontinue the suspension of liquidation and collection of cash deposits rate on entries of the subject merchandise entered or withdrawn from warehouse on or after January 1, 2000 (the effective date). The Department will complete any pending administrative reviews of these orders and will conduct administrative reviews of subject merchandise entered prior to the effective date of revocation in response to appropriately filed requests for review.

Dated: April 25, 2000.
Troy H. Cribb,
Acting Assistant Secretary for Import Administration.

[FR Doc. 00-10803 Filed 4-28-00; 8:45 am]

BILLING CODE 3510-DS-P